DEPARTMENT OF TRANSPORTATION

Federal Aviation Administration

14 CFR Part 39

[Docket No. FAA-2019-0525; Product Identifier 2019-NM-076-AD]

RIN 2120-AA64

Airworthiness Directives; The Boeing Company Airplanes

AGENCY: Federal Aviation Administration (FAA), DOT.

ACTION: Notice of proposed rulemaking (NPRM).

SUMMARY: The FAA proposes to supersede Airworthiness Directive (AD) 2006-11-11, which applies to all The Boeing Company Model 757 airplanes. AD 2006-11-11 requires incorporating a new revision to the Airworthiness Limitations section of the Instructions of Continued Airworthiness to mandate certain repetitive inspections for fatigue cracking of principal structural elements (PSEs). Since AD 2006-11-11 was issued, the FAA has determined that new or more restrictive airworthiness limitations are necessary. This proposed AD would require revising the existing maintenance or inspection program, as applicable, to incorporate new or more restrictive airworthiness limitations. The FAA is proposing this AD to address the unsafe condition on these products.

DATES: The FAA must receive comments on this proposed AD by September 9, 2019.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this NPRM, contact Boeing Commercial Airplanes, Attention: Contractual & Data Services (C&DS), 2600 Westminster Blvd., MC 110-SK57, Seal Beach, CA 90740-5600; phone: 562-797-1717; internet: https://www.myboeingfleet.com. You may view this service information at the FAA, Transport Standards Branch, 2200 South 216th St., Des Moines, WA. For information on the availability of this material at the FAA, call 206-231-3195. It is also available on the internet at http://www.regulations.gov by searching for and locating Docket No. FAA-2019-0525.

Examining the AD Docket

You may examine the AD docket on the internet at http://www.regulations.gov by searching for and locating Docket No. FAA-2019-0525; or in person at Docket Operations between 9 a.m. and 5 p.m., Monday through Friday, except Federal holidays. The AD docket contains this NPRM, the regulatory evaluation, any comments received, and other information. The street address for Docket Operations is listed above. Comments will be available in the AD docket shortly after receipt.

FOR FURTHER INFORMATION CONTACT: Chandraduth Ramdoss, Aerospace Engineer, Airframe Section, FAA, Los Angeles ACO Branch, 3960 Paramount Boulevard, Lakewood, CA 90712-4137; phone: 562-627-5239; fax: 562-627-5210; email: chandraduth.ramdoss@faa.gov.

SUPPLEMENTARY INFORMATION:

Comments Invited

The FAA invites you to send any written relevant data, views, or arguments about this proposal. Send your comments to an address listed under the ADDRESSES section. Include “Docket No. FAA-2019-0525; Product Identifier 2019-NM-076-AD” at the beginning of your comments. The FAA specifically invites comments on the overall regulatory, economic, environmental, and energy aspects of this NPRM. The FAA will consider all comments received by the closing date and may amend this NPRM because of those comments.

The FAA will post all comments received, without change, to http://www.regulations.gov, including any personal information you provide. The FAA will also post a report summarizing each substantive verbal contact received about this proposed AD.

Discussion

The FAA issued AD 2006-11-11, Amendment 39-14615 (71 FR 30278, May 26, 2006) (“AD 2006-11-11”), for all The Boeing Company Model 757 airplanes. AD 2006-11-11 requires incorporating a new revision to the Airworthiness Limitations section of the Instructions of Continued Airworthiness to mandate certain repetitive inspections for fatigue cracking of PSEs. AD 2006-11-11 resulted from a new revision to the Airworthiness Limitations Instructions (ALI). The FAA issued AD 2006-11-11 to address fatigue cracking of various PSEs; such fatigue cracking could adversely affect the structural integrity of these airplanes.

Actions Since AD 2006-11-11 Was Issued

Since AD 2006-11-11 was issued, the FAA has determined that new or more restrictive airworthiness limitations are necessary.

Related Service Information Under 1 CFR Part 51

The FAA reviewed Boeing 757 Maintenance Planning Data (MPD) Document, Section 9, Airworthiness Limitations (AWLs) and Certification Maintenance Requirements (CMRs), D622N001-9, Revision October 2018. This service information describes procedures for airworthiness limitations for structural inspections, fuel tank systems, safe life limits, and certification maintenance requirements.

This proposed AD would also require the following service information, which the Director of the Federal Register approved for incorporation by reference as of June 30, 2006 (71 FR 30278, May 26, 2006).

• Boeing 757 Maintenance Planning Data (MPD) Document, Section 9, “Airworthiness Limitations and Certification Maintenance Requirements,” Subsection B. of Boeing Document D622N001-9, Revision “May 2003.”

• Boeing 757 Maintenance Planning Data (MPD) Document, Section 9, “Airworthiness Limitations and Certification Maintenance Requirements,” Subsection B. of Boeing Document D622N001-9, Revision “June 2005.”

This service information is reasonably available because the interested parties have access to it through their normal course of business or by the means identified in the ADDRESSES section.

FAA's Determination

The FAA is proposing this AD because we evaluated all the relevant information and determined the unsafe condition described previously is likely to exist or develop in other products of the same type design.

Proposed AD Requirements

This proposed AD would retain all requirements of AD 2006-11-11. This proposed AD would require revising the existing maintenance or inspection program, as applicable, to incorporate new or more restrictive airworthiness limitations, which would then terminate all of the retained requirements of AD 2006-11-11.

This proposed AD would require revisions to certain operator maintenance or inspection documents, as applicable, to include new actions (e.g., inspections) and Critical Design Configuration Control Limitations (CDCCLs). Compliance with these actions and CDCCLs is required by 14 CFR 91.403(c). For airplanes that have been previously modified, altered, or repaired in the areas addressed by this proposed AD, the operator may not be able to accomplish the actions described in the revisions. In this situation, to comply with 14 CFR 91.403(c), the operator must request approval for an alternative method of compliance according to paragraph (l) of this proposed AD.

Costs of Compliance

The FAA estimates that this proposed AD affects 561 airplanes of U.S. registry. The FAA estimates the following costs to comply with this proposed AD.

The retained and new actions specified in this proposed AD have the same cost for revising the existing maintenance or inspection program. The FAA has determined that revising the existing maintenance or inspection program takes an average of 90 work-hours per operator, although the agency recognizes that this number may vary from operator to operator. In the past, the FAA has estimated that this action takes 1 work-hour per airplane. Since operators incorporate maintenance or inspection program changes for their affected fleet(s), the FAA has determined that a per-operator estimate is more accurate than a per-airplane estimate. Therefore, the FAA estimates the total cost per operator to be $7,650 (90 work-hours × $85 per work-hour).

Authority for This Rulemaking

Title 49 of the United States Code specifies the FAA's authority to issue rules on aviation safety. Subtitle I, Section 106, describes the authority of the FAA Administrator. Subtitle VII, Aviation Programs, describes in more detail the scope of the Agency's authority.

The FAA is issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This proposed AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

The FAA has determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2006-11-11, Amendment 39-14615 (71 FR 30278, May 26, 2006), and adding the following new AD:

The Boeing Company: Docket No. FAA-2019-0525; Product Identifier 2019-NM-076-AD.

(a) Comments Due Date

The FAA must receive comments on this AD action by September 9, 2019.

(b) Affected ADs

This AD replaces AD 2006-11-11, Amendment 39-14615 (71 FR 30278, May 26, 2006) (“AD 2006-11-11”).

(c) Applicability

This AD applies to all The Boeing Company Model 757-200, -200PF, -200CB, and -300 series airplanes, certificated in any category.

(d) Subject

Air Transport Association (ATA) of America Code 28, Fuel; 53, Fuselage; 57, Wings.

(e) Unsafe Condition

This AD was prompted by a determination that new or more restrictive airworthiness limitations are necessary. The FAA is issuing this AD to address fatigue cracking of various principal structural elements (PSEs); such fatigue cracking could adversely affect the structural integrity of these airplanes.

(f) Compliance

Comply with this AD within the compliance times specified, unless already done.

(g) Retained Revision to the Maintenance or Inspection Program, With No Changes

This paragraph restates the requirements of paragraph (h) of AD 2006-11-11 with no changes. Within 36 months after June 30, 2006 (the effective date of AD 2006-11-11), revise Section 9, “Airworthiness Limitations and CMRs” of the Boeing 757 Maintenance Planning Data (MPD) Document to incorporate Subsection B. of Boeing Document D622N001-9, Revision “May 2003;” or Revision “June 2005,” as applicable.

(h) Maintenance or Inspection Program Revision

Within 18 months after the effective date of this AD, revise the existing maintenance or inspection program, as applicable, to incorporate the information specified in Boeing 757 Maintenance Planning Data (MPD) Document, Section 9, Airworthiness Limitations (AWLs) and Certification Maintenance Requirements (CMRs), D622N001-9, Revision October 2018. The initial compliance time for doing the new or updated tasks is at the time specified in Boeing 757 Maintenance Planning Data (MPD) Document, Section 9, Airworthiness Limitations (AWLs) and Certification Maintenance Requirements (CMRs), D622N001-9, Revision October 2018, or within 18 months after the effective date of this AD, whichever occurs later. The compliance time for doing the unchanged tasks is at the time specified in Boeing 757 Maintenance Planning Data (MPD) Document, Section 9, Airworthiness Limitations (AWLs) and Certification Maintenance Requirements (CMRs), D622N001-9, Revision October 2018.

(i) No Alternative Actions, Intervals, or Critical Design Configuration Control Limitations (CDCCLs) for Paragraph (g) of This AD

Except as required by paragraph (h) of this AD: After the existing maintenance or inspection program has been revised as required by paragraph (g) of this AD, no alternative actions (e.g., inspections), intervals, or CDCCLs may be used unless the actions, intervals, and CDCCLs are approved as an alternative method of compliance (AMOC) in accordance with the procedures specified in paragraph (l) of this AD.

(j) No Alternative Actions, Intervals, or CDCCLs for Paragraph (h) of This AD

After the existing maintenance or inspection program has been revised as required by paragraph (h) of this AD, no alternative actions (e.g., inspections), intervals, or CDCCLs may be used unless the actions, intervals, and CDCCLs are approved as an AMOC in accordance with the procedures specified in paragraph (l) of this AD.

(k) Terminating Action for Paragraph (g) of This AD

Accomplishing the revision required by paragraph (h) of this AD terminates the revision required by paragraph (g) of this AD.

(l) Alternative Methods of Compliance (AMOCs)

(1) The Manager, Los Angeles ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (m)(1) of this AD. Information may be emailed to: 9-ANM-LAACO-AMOC-Requests@faa.gov.

(2) Before using any approved AMOC, notify your appropriate principal inspector, or lacking a principal inspector, the manager of the local flight standards district office/certificate holding district office.

(3) An AMOC that provides an acceptable level of safety may be used for any repair, modification, or alteration required by this AD if it is approved by The Boeing Company Organization Designation Authorization (ODA) that has been authorized by the Manager, Los Angeles ACO Branch, FAA, to make those findings. To be approved, the repair method, modification deviation, or alteration deviation must meet the certification basis of the airplane, and the approval must specifically refer to this AD.

(4) AMOCs approved previously for AD 2001-20-12 and AD 2006-11-11 are approved as AMOCs for the corresponding provisions of this AD.

(m) Related Information

(1) For more information about this AD, contact Chandraduth Ramdoss, Aerospace Engineer, Airframe Section, FAA, Los Angeles ACO Branch, 3960 Paramount Boulevard, Lakewood, CA 90712-4137; phone: 562-627-5239; fax: 562-627-5210; email: chandraduth.ramdoss@faa.gov.

(2) For service information identified in this AD, contact Boeing Commercial Airplanes, Attention: Contractual & Data Services (C&DS), 2600 Westminster Blvd., MC 110-SK57, Seal Beach, CA 90740-5600; phone: 562-797-1717; internet: https://www.myboeingfleet.com. You may view this referenced service information at the FAA, Transport Standards Branch, 2200 South 216th St., Des Moines, WA. For information on the availability of this material at the FAA, call 206-231-3195.

Issued in Des Moines, Washington, on July 16, 2019.
Suzanne Masterson,
Acting Director, System Oversight Division, Aircraft Certification Service.

[FR Doc. 2019-15582 Filed 7-24-19; 8:45 am]

BILLING CODE 4910-13-P